DEPARTMENT OF DEFENSE

Office of the Secretary

[Docket ID: DoD-2009-OS-0088]

Proposed Collection; Comment Request

AGENCY: Office of the Under Secretary of Defense for Acquisition, Technology, and Logistics, DoD.

ACTION: Notice.

SUMMARY: In compliance with section 3506(c)(2)(A) of the Paperwork Reduction Act of 1995, the Office of the Under Secretary of Defense for Acquisition, Technology, and Logistics announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms or information technology.

DATES: Consideration will be given to all comments received August 18, 2009.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense for Acquisition, Technology, and Logistics, 3010 Defense Pentagon, Washington, DC 20301-3010, or call at (703) 692-3032.

Title and OMB Number: Synchronized Predeployment and Operational Tracker (SPOT) System; OMB Control Number 0704-TBD.

Needs and Uses: In accordance with section 861 of Public Law 110-181 and DoD Instruction 3020.41, “Contractor Personnel Authorized to Accompany the U.S. Armed Forces” and other appropriate policy, Memoranda of Understanding, and regulations, the DoD Components, the Department of State (DoS), and the United States Agency for International Development (USAID) shall ensure that contractors enter data into the Synchronized Predeployment and Operational Tracker (SPOT) System before deployment outside the United States.

Data collection on contractors is a condition of their contract when DFARS 252.225-7040 is incorporated and persons who choose not to have data collected will not be entitled to employment opportunities which require this data to be collected.

Affected Public: Business or other for-profit.

Annual Burden Hours: 150,000 hours (300,000 individual records × .5 hrs).

Number of Respondents: 1,300 companies.

Responses per Respondent: 1 to 32,000 employees (average 231).

Average Burden per Response: Approximately 30 minutes.

Frequency: On occasion.

SUPPLEMENTARY INFORMATION:

Summary of Information Collection

The Department of Defense has designated the SPOT as the joint Web-based database to assist the Combatant Commander (CCDR) in maintaining awareness of the nature, extent, and potential risks and capabilities associated with contracted support in support of contingency operations, humanitarian or peacekeeping operations, or military exercises designated by the CCDR.

The designated joint Web-based database (SPOT or its successor) shall:

(a) Serve as the central repository for up-to-date status and reporting on all DoD funded contingency contractor personnel as well as other personnel as directed by the Under Secretary of Defense for Acquisition, Technology, and Logistics (USD(AT&L)), or by the CCDR.

(b) Track contract capability information for all DoD funded contracts supporting contingency operations, humanitarian or peacekeeping operations, or military exercises designated by the CCDR. Contract capability information shall provide planners and CCDRs an awareness of the nature, extent, and potential risks and capabilities associated with the contracted effort.

(c) Provide by-name accountability of all DoD funded contingency contractor personnel and other personnel as directed by USD(AT&L) or the CCDR.

(d) Contain, or link to, minimum contract information (e.g., contract number, company contact information, sponsoring (requiring activity) military unit contact information, and a summary of services or capability provided by the contract) necessary to establish and maintain accountability and visibility of the personnel and the contract capabilities in contingency operations, humanitarian or peacekeeping operations, or military exercises designated by the CCDR.

Section 861 of Public Law 110-181 required the identification of common databases among the DoD, DoS, and USAID to serve as repositories of information on contracts and contractor personnel in Iraq and Afghanistan. In a signed memorandum of understanding, the Agencies agreed that SPOT will serve as the interagency database for information on contractor personnel. Each Agency must require its contractors operating in contingency operations to input information into SPOT and ensure data integrity.

This request has been submitted to the Office of Management and Budget (OMB) for emergency approval. Any comments received on this notice will be addressed in a subsequent information collection package to be submitted to OMB under regular processing timeframes.

Dated: May 19, 2009.
Patricia L. Toppings,
OSD Federal Register Liaison Officer, Department of Defense.

[FR Doc. E9-14431 Filed 6-18-09; 8:45 am]

BILLING CODE 5001-06-P